SECURITIES AND EXCHANGE COMMISSION

[Release Nos. 34-52293; IA-2417; File No. S7-25-99]

RIN 3235-AH78

Certain Broker-Dealers Deemed Not To Be Investment Advisers

AGENCY: Securities and Exchange Commission.

ACTION: Notice of OMB approval of collections of information.

FOR FURTHER INFORMATION CONTACT: Robert L. Tuleya, Senior Counsel, (202) 551-6787, IArules@sec.gov, Office of Investment Adviser Regulation, Division of Investment Management, U.S. Securities and Exchange Commission, 100 F Street, NE., Washington, DC 20549-0506.

SUPPLEMENTARY INFORMATION: In conjunction with Investment Advisers Act of 1940 rule 202(a)(11)-1,¹ the Securities and Exchange Commission submitted certain existing collections of information to the Office of Management and Budget (“OMB”) in accordance with 44 U.S.C. 3507(d) and 5 CFR 1320.11. OMB has approved changes to these collection of information requirements which are described in Certain Broker-Dealers Deemed Not To Be Investment Advisers.² The titles of the affected collections of information are: “Form ADV” (OMB Control No. 3235-0049); “Form ADV-NR” (OMB Control No. 3235-0240); “Form ADV-W and Rule 203-2” (OMB Control No. 3235-0313); “Rule 203-3 and Form ADV-H” (OMB Control No. 3235-0538); “Rule 204-2” (OMB Control No. 3235-0278); “Rule 204-3” (OMB Control No. 3235-0047); “Rule 204A-1” (OMB Control No. 3235-0596); “Rule 206(4)-3” (OMB Control No. 3235-0242); “Rule 206(4)-4” (OMB Control No. 3235-0345); “Rule 206(4)-6” (OMB Control No. 3235-0571); and “Rule 206(4)-7” (OMB Control No. 3235-0585).

¹ 17 CFR 275.202(a)(11)-1.

² Investment Advisers Act Rel. No. 2376 (Apr. 12, 2005) [70 FR 20424 (Apr. 19, 2005)].

Dated: August 18, 2005.
Margaret H. McFarland,
Deputy Secretary.

[FR Doc. 05-16867 Filed 8-23-05; 8:45 am]

BILLING CODE 8010-01-P